DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than November 10, 2005.

Interested persons are invited to submit written comments regarding the subject matter of the investigations to the Director, Division of Trade Adjustment Assistance, at the address shown below, not later than November 10, 2005.

The petitions filed in this case are available for inspection at the Office of the Director, Division of Trade Adjustment Assistance, Employment and Training Administration, U.S. Department of Labor, Room C-5311, 200 Constitution Avenue, NW., Washington, DC 20210.

Signed at Washington, DC, this 19th day of October 2005.
Douglas F. Small,
Acting Director, Division of Trade Adjustment Assistance.

Appendix
[TAA petitions instituted between 9/26/05 and 10/7/05]
TA-W | Subject firm (petitioners) | Location | Date of institution | Date of petition
58022 | Meadow River Hardwood Lumber Company (CECIC) | Rainelle, WV | 09/26/05 | 09/06/05
58023 | Fairchild Semiconductor (State) | West Jordan, UT | 09/26/05 | 09/23/05
58024 | Black Hawk Products Group (Wkrs) | Hayesville, NC | 09/26/05 | 09/23/05
58025 | Kealey Johnson Wholesale Florist (Comp) | Abingdon, VA | 09/26/05 | 09/21/05
58026 | Permiere Fibers (Comp) | Asheboro, NC | 09/26/05 | 09/23/05
58027 | Carhartt, Inc. (Comp) | Providence, KY | 09/26/05 | 09/08/05
58028 | Cat Logistics (Wkrs) | Portland, TN | 09/26/05 | 09/26/05
58029 | IBM (Wkrs) | Maumee, OH | 09/26/05 | 09/26/05
58030 | Holt Hoisery Mills (State) | Burlington, NC | 09/26/05 | 09/09/05
58031 | Com-Tal Machine and Engineering (State) | White Bear Township, MN | 09/26/05 | 09/26/05
58032 | Ken-Tron Mfg., Inc. (Wkrs) | Owensboro, KY | 09/26/05 | 09/12/05
58033 | Semiconductor Industries, LLC (Comp) | East Greenwich, RI | 09/27/05 | 09/26/05
58034 | Highland Mills, Inc. (Comp) | Charlotte, NC | 09/27/05 | 09/26/05
58035 | Eastman Kodak Company (Comp) | Rochester, NY | 09/28/05 | 09/26/05
58036 | Liberty Carton New England (State) | Peabody, MA | 09/28/05 | 09/21/05
58037 | Cabot Supermetals (Wkrs) | Boyertown, PA | 09/28/05 | 08/30/05
58038 | Teradyne, Inc. (State) | Waltham, MA | 09/28/05 | 09/27/05
58039 | Liberty Fibers Corporation (Comp) | Lowland, TN | 09/28/05 | 09/27/05
58040 | Cope Tool and Die, Inc. (State) | Garfield Township, MI | 09/28/05 | 09/19/05
58041 | Foam Pro (State) | Irvine, CA | 09/28/05 | 09/28/05
58042 | A.D.H. Manufacturing Corp. (Comp) | Etowah, TN | 09/28/05 | 09/26/05
58043 | Intermark Fabric Corp. (State) | Plainfield, CT | 09/28/05 | 09/28/05
58044 | Midwest Air Technologies (Wkrs) | Mountain Grove, MO | 09/29/05 | 09/27/05
58045 | Mamco Corporation/Lexel (State) | Hutsonville, IL | 09/29/05 | 09/28/05
58046 | Leybold Vacuum USA (Wkrs) | Export, PA | 09/29/05 | 09/27/05
58047 | Plasti-Coil, Inc. (WKrs) | Lake Geneva, WI | 09/29/05 | 09/19/05
58048 | S. Goldberg and Co., Inc. (Comp) | Hackensack, NJ | 09/29/05 | 09/28/05
58049 | Steams Manufacturing (State) | Sauk Rapids, MN | 09/29/05 | 09/29/05
58050 | Masterbuilt Manufacturing, Inc. (Comp) | Columbus, GA | 09/30/05 | 09/08/05
58051 | Miker Companies (GCIU) | Cheektowaga, NY | 09/30/05 | 09/22/05
58052 | Trigen-BioPower, Inc. (Comp) | Hodges, SC | 09/30/05 | 09/26/05
58053 | Lea/American Drew (Comp) | N. Wilkesboro, NC | 09/30/05 | 09/22/05
58054 | Arca Knitting, Inc. (Comp) | Hialeah, FL | 09/30/05 | 09/29/05
58055 | New Venture Industries (Comp) | Grand Blanc, MI | 10/03/05 | 09/29/05
58056 | Neilsen Manufacturing, Inc. (State) | Salem, OR | 10/03/05 | 09/30/05
58057 | Emerson Motor Technologies (State) | Kennett, MO | 10/03/05 | 09/30/05
58058 | Wizard Textiles, Inc. (UNITE) | Newark, NJ | 10/03/05 | 10/03/05
58059 | Pomeroy Computer Resources (Wkrs) | Macon, GA | 10/03/05 | 10/03/05
58060 | Madison Brands, Inc. (Comp) | Brooklyn, NY | 10/03/05 | 09/16/05
58061 | Atfab (Wkrs) | Painesville, OH | 10/03/05 | 09/14/05
58062 | Integreo (Wkrs) | Macon, GA | 10/03/05 | 09/19/05
58063 | Sony Electronics, Inc. (Comp) | San Diego, CA | 10/03/05 | 10/03/05
58064 | VF Jeanswear Limited Partnership (Comp) | Wilson, NC | 10/04/05 | 10/01/05
58065 | Kelloggs (Wkrs) | Macon, GA | 10/04/05 | 09/26/05
58066 | Agere Systems (IBEW) | Allentown, PA | 10/04/05 | 09/26/05
58067 | Yoder Brothers (State) | Chualar, CA | 10/04/05 | 09/25/05
58068 | Photocircuits Corporation (Comp) | Peachtree City, GA | 10/04/05 | 09/09/05
58069 | All Best, Inc. (Wkrs) | New York, NY | 10/04/05 | 09/07/05
58070 | Carrier Access Corp. (State) | Boulder, CO | 10/05/05 | 10/04/05
58071 | EEEA (Wkrs) | Mauldin, SC | 10/05/05 | 09/15/05
58072 | Engineered Specialty Plastics (State) | Hot Springs, AR | 10/05/05 | 10/04/05
58073 | Schindler Elevator Corporation (Wkrs) | Glendale, NY | 10/05/05 | 10/05/05
58074 | Jasco Fabrics, Inc. (State) | New York City, NY | 10/05/05 | 09/14/05
58075 | Paxar (Wkrs) | Sayre, PA | 10/05/05 | 10/04/05
58076 | T P Corporation (Comp) | Duryea, PA | 10/05/05 | 10/05/05
58077 | Friedrich Air Conditions (IUE) | San Antonio, TX | 10/05/05 | 10/05/05
58078 | Kolpak-KMT Refrigeration (Comp) | River Falls, WI | 10/06/05 | 09/22/05
58079 | Industrial Wire Products, Inc. (Wkrs) | Sullivan, MO | 10/06/05 | 10/04/05
58080 | Stratex Networks (State) | San Jose, CA | 10/06/05 | 09/22/05
58081 | Accufab Industries (Comp) | New Freedom, PA | 10/06/05 | 09/30/05
58082 | True Temper Sports (State) | El Cajon, CA | 10/06/05 | 09/28/05
58083 | Epsilon Foam Corporation (Wkrs) | Azusa, CA | 10/06/05 | 10/05/05
58084 | Draeger Medical, Inc. (Wkrs) | Telford, PA | 10/06/05 | 10/06/05
58085 | EMC (State) | Cincinnati, OH | 10/06/05 | 09/23/05
58086 | Nitro Corporation and Total Distribution, Inc. (Wkrs) | Nitro, WV | 10/07/05 | 10/04/05
58087 | Bucilla Corp. (Wkrs) | Hazleton, PA | 10/07/05 | 10/06/05
58088 | Twin Rivers Technologies, Inc. (USWA) | Painesville, OH | 10/07/05 | 10/06/05
58089 | Somika (Comp) | Shelby, NC | 10/07/05 | 10/06/05
58090 | Texas Instruments, Inc. (Comp) | Attleboro, MA | 10/07/05 | 10/07/05
58091 | Beiersporf, Inc. (Comp) | Mariemont, OH | 10/07/05 | 10/03/05
58092 | Port Augustus Glass/L.E. Smith Glass (Wkrs) | Mt. Pleasant, PA | 10/07/05 | 09/30/05
58093 | Tenneco Automotive (Comp) | Hartwell, GA | 10/07/05 | 10/07/05
58094 | Metron North America (State) | Knoxville, TN | 10/07/05 | 10/06/05
58095 | Premier Quilting (Comp) | Oxford, NC | 10/07/05 | 09/29/05
58096 | Parker Hannifin (Comp) | Goshen, IN | 10/07/05 | 10/07/05
58097 | Agilent Technologies (State) | Loveland, CO | 10/07/05 | 10/06/05

[FR Doc. E5-6003 Filed 10-28-05; 8:45 am]

BILLING CODE 4510-30-P